DEPARTMENT OF COMMERCE

National Oceanic and Atmospheric Administration

RIN 0648-XA110

Endangered and Threatened Species; Take of Anadromous Fish

AGENCY: National Marine Fisheries Service (NMFS), National Oceanic and Atmospheric Administration (NOAA), Commerce.

ACTION: Notice; reopening of comment period.

SUMMARY: NMFS is reopening the comment period for its proposed evaluation and pending determination on the 2010-2014 Puget Sound Chinook Resource Management Plan. The comment period is being reopened to provide additional opportunity for public comment.

DATES: Written comments on the Secretary's proposed evaluation must be received at the appropriate address or fax number (see ADDRESSES) no later than 5 p.m. Pacific Standard Daylight Time on February 22, 2011.

ADDRESSES: Comments and requests for copies of the proposed evaluation should be addressed to Susan Bishop, Salmon Management Division, National Marine Fisheries Service, 7600 Sand Point Way NE., Seattle, WA 98115-0070, or faxed to (206) 526-6736. Comments on this proposed evaluation may be submitted by e-mail. The mailbox address for providing e-mail comments is 2010PSCHNKHARVEST.nwr@noaa.gov. Include in the subject line the following document identifier: “2010 CHNK PSHARVEST proposed evaluation”. The document is also available on the Internet at http://www.nwr.noaa.gov/Salmon-Harvest-Hatcheries/State-Tribal-Management/PS-Chinook-RMPs.cfm.

FOR FURTHER INFORMATION CONTACT: Susan Bishop at phone number: 206/526-4587, Puget Sound Harvest Team Leader or e-mail: susan.bishop@noaa.gov regarding the RMP.

SUPPLEMENTARY INFORMATION:

Reopening of Comment Period

The comment period will be reopened through February 22, 2011.

Background

NMFS published a document in the Federal Register of December 29, 2010, concerning the availability for public comment of the proposed evaluation of the Secretary of Commerce (Secretary) as to how the Puget Sound Chinook Resource Management Plan (RMP) addresses the criteria in Limit 6 of the Endangered Species Act (ESA) 4(d) Rule. The comment period for this action ended Friday, January 28, 2011. The comment period is being reopened to provide additional opportunity for public comment. The Puget Sound Treaty Tribes and the Washington Department of Fish and Wildlife submitted to NMFS, pursuant to the protective regulations promulgated for Puget Sound Chinook salmon under Limit 6 of the ESA 4(d) Rule for salmon and steelhead, a jointly developed RMP. The RMP specifies the future management of commercial, recreational, subsistence and tribal salmon fisheries potentially affecting listed Puget Sound Chinook salmon from May 1, 2010, through April 30, 2015.

Dated: January 31, 2011.
Therese Conant,
Acting Chief, Endangered Species Division, Office of Protected Resources, National Marine Fisheries Service.

[FR Doc. 2011-2536 Filed 2-3-11; 8:45 am]

BILLING CODE 3510-22-P